DEPARTMENT OF TRANSPORTATION

Federal Aviation Administration

14 CFR Part 73

[Docket No. FAA-2010-1146; Airspace Docket No. 10-ASO-25]

RIN 2120-AA66

Amendment of Restricted Areas R-2907A and R-2907B, Lake George, FL; and R-2910, Pinecastle, FL

AGENCY: Federal Aviation Administration (FAA), DOT.

ACTION: Final rule.

SUMMARY: This action expands the restricted airspace at Lake George, FL, and Pinecastle, FL, providing additional restricted airspace needed to contain airborne laser operations and other hazardous activities. The changes allow more realistic training in current tactics to be conducted at the range.

DATES: Effective date 0901 UTC, August 22, 2013.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

History

On December 22, 2010, the FAA published in the Federal Register a notice of proposed rulemaking (NPRM) to restructure and expand the restricted areas at Lake George, FL, and Pinecastle, FL (75 FR 80372). Interested parties were invited to participate in this rulemaking by submitting written comments on the proposal to the FAA. Over 35 responses were received. The commenters included pilots, flight instructors, property owners, Aircraft Owners and Pilots Association (AOPA), Embry Riddle Aeronautical University (ERAU) and Phoenix East Aviation, Inc.

Discussion of Comments

The majority of the commenters objected to the proposed establishment of two new restricted areas, R-2907B (located between R-2907 and R-2906); and R-2910D (located between R-2910 and R-2907). Because both R-2907B and R-2910D would extend from 500 feet MSL up to FL 230, the commenters argued that this would block two important east-west VFR corridors forcing VFR pilots to make an extensive circumnavigation of the Pinecastle/Lake George complex or risk flying beneath the restricted areas below 500 feet. Many commenters suggested that raising the floors anywhere from 1,000 feet to 3,000 feet would resolve the situation.

After negotiations with the proponent, it was decided to subdivide R-2907B and R-2910D into two areas each with the split at 2,000 feet MSL. As agreed, R-2907B extends from 2,000 feet MSL up to FL 230; and a new area, R-2907C, is established directly below R-2907B with vertical limits of 500 feet MSL up to but not including 2,000 feet MSL. Similarly, R-2910D is split at 2,000 feet MSL with dimensions of 2,000 feet MSL up to FL 230; and a new area, R-2910E directly beneath R-2910D, with vertical limits of 500 feet MSL up to but not including 2,000 feet MSL. To provide greater opportunity for availability of the VFR corridors, the proponent agreed to limit the activation of R-2907C and R-2910E to a maximum of 800 hours per year. The idea of subdividing the areas at 3,000-feet MSL instead of 2,000 feet was considered. However, the proponent was concerned that a 3,000-foot split could result in the need for more frequent activation of the “low” restricted areas to accomplish some mission profiles, which could further limit access to the VFR corridors.

Another issue noted by the commenters was the compression of airspace due to the close proximity of the southern boundary of R-2910 (extending from the surface to 6,000 feet MSL) to the northern boundary of the Orlando Class B airspace area and the Orlando Mode C veil. Because the R-2910 boundary effectively abuts the Orlando Class B/Mode C veil (a gap less than 1 NM wide) pilots transiting the area would be forced to choose whether to climb above the 6,000-foot restricted area, risk intrusion into the Class B airspace or the restricted area, or make a significant deviation to avoid the area entirely. Non-electrical system/non-transponder equipped aircraft face similar choices regarding the Class B boundary and the Mode C veil. Two commenters suggested moving the southernmost boundary of R-2910 five nautical miles (NM) to the north to alleviate the problem.

Moving the boundary five NM to the north, as suggested, would eliminate R-2910C and most of R-2910B which would adversely affect mission accomplishment. The proponent agreed that R-2910C will be activated only when absolutely necessary to accomplish the mission. When R-2910C is not in use, the gap between R-2910B and the Class B boundary/Mode C veil would be about 2.5 NM.

A number of commenters were concerned about the inability to communicate by radio with the controlling agency to determine the status of the airspace, particularly at lower altitudes. They requested that a communications frequency for the controlling agency be printed on the Sectional Aeronautical Chart to make it easier for pilots to obtain the airspace status while en route.

The proponent agreed to this request and provided a VHF frequency for contacting the Fleet Area Control and Surveillance Facility, Jacksonville (call sign “Sealord”). Communications coverage with “Sealord” is much better due to the transmitter site being located within the Pinecastle Range complex. Local pilots taking off from airports that lie underneath the Palatka MOA, as well as pilots transiting the area, should be able to determine the status of the airspace without delay. In fact, a communications frequency box for obtaining restricted area status is already published near the restricted areas on both the Jacksonville Sectional Aeronautical Chart and the Tampa/Orlando VFR Terminal Area Chart.

Some commenters said that the published time of designation for the restricted areas more accurately reflect actual utilization. The proponent agreed to reduce the current charted times from “Intermittent, 0500-0100 local time, daily; other times by NOTAM 6 hours in advance,” to “Intermittent, 0800-2400 local time, daily; other times by NOTAM 6 hours in advance.” During periods when the airspace is not needed by the using agency for its designated purpose, the airspace will be returned to the controlling agency (i.e., Jacksonville ARTCC) for access by other airspace users. Keep in mind that the areas are not constantly in use during the published times. These times reflect the most likely periods when activity could occur and the 6-hour NOTAM provision provides the using agency with the flexibility to accommodate mission requirements outside the “core” hours. The charted status frequency box provides a means for pilots to obtain real time status of the restricted areas.

Differences From NPRM

Restricted area R-2906 was added to this rule to reduce the time of designation to be consistent with the adjacent restricted areas and to update the name of the using agency. The current boundaries and altitudes for R-2906 are not affected by this rule.

The time of designation for all Pinecastle, FL, and Lake George, FL, restricted areas is reduced from “Intermittent, 0500 to 0100 local time, daily; other times by NOTAM 6 hours in advance,” to “Intermittent, 0800-2400, daily; other times by NOTAM, 6 hours in advance.”

R-2907B was further divided into two subareas: R-2907B and R-2907C, to preserve access to a VFR corridor. Similarly, R-2910D was divided into two subareas: R-2910D and R-2910E, to preserve access to a VFR corridor.

The Rule

This action amends 14 CFR part 73 by modifying restricted areas R-2906, Rodman, FL; R-2907A and B, Lake George, FL; and R-2910, Pinecastle, FL, as outlined below.

R-2906 Changes

The NPRM did not propose any changes for R-2906. However, it was decided to reduce the time of designation for R-2906 from “Intermittent, 0500 to 0100 local time, daily; other times by NOTAM 6 hours in advance,” to “Intermittent, 0800 to 2400 local time, daily; other times by NOTAM 6 hours in advance,” to match the times for R-2907 and R-2910. In addition, an editorial correction is made to the using agency name by removing the abbreviation “NAS” from the text. The boundaries and altitudes of R-2906 remain unchanged.

R-2907 Changes

This action expands the boundaries of R-2907A westward to incorporate that restricted airspace currently designated as R-2907B. Further, the upper altitude limit in that incorporated section (currently 6,000 feet and 9,000 feet MSL) is raised to FL 230 to match the current R-2907A ceiling. The R-2907B title is redescribed as a new restricted area immediately to the north of the newly incorporated section of R-2907A. The new R-2907B extends northward from the expanded R-2907A boundary to abut the boundary of the southern half of existing restricted area R-2906, Rodman, FL. In the NPRM, the FAA proposed that R-2907B would extend from 500 feet MSL up to FL 230. After commenters objected, as discussed above, it was decided to further subdivide R-2907B into two areas. The revised R-2907B extends from 2,000 feet MSL up to FL 230; and a new area, R-2907C extends from 500 feet MSL up to but not including 2,000 feet MSL (directly below R-2907B). R-2907C will be activated only on a limited basis, not to exceed 800 hours per year, and only when absolutely needed to accomplish the mission. This ensures greater availability of the VFR corridor than what was originally proposed.

R-2910 Changes

This action expands and restructures R-2910. Currently, R-2910 extends from the surface to three different altitudes: 6,000 feet MSL, 9,000 feet MSL and FL 230. This action replaces R-2910 with five subareas: R-2910A, R-2910B, R-2910C, R-2910D and R-2910E. The new R-2910A consists of that part of the existing R-2910 running from the current northwest end of R-2910 southeastward to latitude 29°00′00″ N. The new R-2910A extends from the surface up to FL 230. As proposed, the remaining section of the current R-2910 (i.e., the airspace south of latitude 29°00′0″ N.) is split into two new subareas, designated R-2910B and R-2910C, that each extend from the surface to 6,000 feet MSL. The 6,000-foot MSL ceiling of these two subareas provides airspace to enable nonparticipating aircraft to climb above that segment of the R-2910 complex while remaining outside the Orlando Class B airspace area. In response to comments about the compression of airspace between the Class B airspace/Orlando Mode C veil and R-2910, the U.S. Navy agreed to activate R-2910C only when absolutely necessary to accomplish the mission. When R-2910C is not in use, this will provide additional room for pilots wishing to navigate below 6,000 feet MSL between the Class B/Mode C veil and the boundary of R-2910B.

An additional new restricted area is established within the airspace that lies between the new R-2910A and the expanded R-2907A. As proposed, this new area was designated R-2910D extending from 500 feet MSL to FL 230. In response to commenters, objections discussed above, R-2910D was changed to extend from 2,000 feet MSL to FL 230 and a new area R-2907E, extending from 500 feet MSL to but not including 2,000 feet MSL, is established directly below R-2907D. This allows greater availability of the VFR corridor. As with R-2907C, above, the U.S. Navy agreed to a maximum of 800 hours per year for use of R-2910E.

This rule includes several editorial changes to update controlling and using agency information. The controlling agency for R-2907A is updated by replacing “Jacksonville ARTC Center” with “Jacksonville ARTCC.” The using agency for R-2907A is changed from “Jacksonville Operating Area Coordination Center, (JOACC), NAS Jacksonville, FL,” to “U.S. Navy, Fleet Area Control and Surveillance Facility, Jacksonville (FACSFAC JAX), Jacksonville, FL.” The using agency for R-2906 and the remaining R-2907 and R-2910 areas is edited by adding “U.S. Navy” and removing the abbreviation “NAS.”

In a separate nonrulemaking action, the FAA is modifying the Palatka 1 and Palatka 2 military operations areas (MOA) to reduce the times of use to match the modified restricted area times; amending the boundary descriptions to reflect the restricted area changes, and excluding the restricted airspace when the restricted areas are active.

The FAA has determined that this regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in SubtitleVII, Part A, Subpart I, Section 40103. Under that section, the FAA is charged with prescribing regulations to assign the use of the airspace necessary to ensure the safety of aircraft and the efficient use of airspace. This regulation is within the scope of that authority as it will restructure special use airspace in Florida to accommodate military training requirements.

Environmental Review

In accordance with FAA Order 1050.1E, “Environmental Impacts: Policies and Procedures,” paragraphs 402 and 404d, the FAA has conducted an independent evaluation of the U.S. Navy's “Final Environmental Assessment (FEA),” dated August 2012, regarding the expansion of the Pinecastle Range Complex. The FAA adopted the FEA and prepared a Finding of No Significant Impact/Record of Decision dated June 2013. The FAA has determined that no significant impacts would occur as a result of the Federal Action and therefore that preparation of an Environmental Impact Statement is not warranted and a Finding of No Significant Impact in accordance with 40 CFR 1501.4 (e) is appropriate.

List of Subjects in 14 CFR Part 73

Airspace, Prohibited Areas, Restricted Areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.29 (Amended)

2. § 73.29 is amended as follows:

* * * * *

R-2906 Rodman, FL [Amended]

By removing the current time of designation and using agency and inserting the following:

Time of designation. Intermittent, 0800-2400, daily; other times by NOTAM 6 hours in advance.

Using agency. U.S. Navy, Fleet Area Control and Surveillance Facility, Jacksonville (FACSFAC JAX), Jacksonville, FL.

* * * * *

R-2907A Lake George, FL [Amended]

By removing the current boundaries, time of designation and using agency and inserting the following:

Boundaries. Beginning at lat. 29°22′51″ N., long. 81°31′19″ W.; to lat. 29°12′31″ N., long. 81°29′59″ W.; to lat. 29°12′31″ N., long. 81°38′29″ W.; to lat. 29°15′06″ N., long. 81°39′59″ W.; to lat. 29°15′06″ N., long. 81°51′49″ W.; to lat. 29°20′06″ N., long. 81°51′49″ W.; to lat. 29°20′06″ N., long. 81°39′59″ W.; to lat. 29°23′01″ N., long. 81°39′59″ W.; to lat. 29°23′01″ N., long. 81°38′54″ W.; thence clockwise along the 5 NM arc centered at lat. 29°19′12″ N., long. 81°35′14″ W. to the point of beginning.

Time of designation. Intermittent, 0800-2400, daily; other times by NOTAM, 6 hours in advance.

Controlling agency. FAA, Jacksonville ARTCC.

Using agency. U.S. Navy, Fleet Area Control and Surveillance Facility, Jacksonville (FACSFAC JAX), Jacksonville, FL.

* * * * *

R-2907B Lake George, FL [Amended]

By removing the current boundaries, designated altitudes, time of designation and using agency and inserting the following:

Boundaries. Beginning at lat. 29°25′41″ N., long. 81°41′47″ W.; to lat. 29°23′01″ N., long. 81°39′59″ W.; to lat. 29°20′06″ N., long. 81°39′59″ W.; to lat. 29°20′06″ N., long. 81°51′49″ W.; to lat. 29°29′30″ N., long. 81°51′41″ W.; thence counterclockwise along a 5 NM arc centered at lat. 29°29′01″ N., long. 81°45′59″ W.; to the point of beginning.

Designated altitudes. 2,000 feet MSL to FL 230.

Time of designation. Intermittent, 0800-2400, daily; other times by NOTAM, 6 hours in advance.

Using agency. U.S. Navy, Fleet Area Control and Surveillance Facility, Jacksonville (FACSFAC JAX), Jacksonville, FL.

* * * * *

R-2907C Lake George, FL [New]

Boundaries. Beginning at lat. 29°25′41″ N., long. 81°41′47″ W.; to lat. 29°23′01″ N., long. 81°39′59″ W.; to lat. 29°20′06″ N., long. 81°39′59″ W.; to lat. 29°20′06″ N., long. 81°51′49″ W.; to lat. 29°29′30″ N., long. 81°51′41″ W.; thence counterclockwise along a 5 NM arc centered at lat. 29°29′01″ N., long. 81°45′59″ W.; to the point of beginning.

Designated altitudes. 500 feet MSL to, but not including, 2,000 feet MSL.

Time of designation. Intermittent, 0800-2400, daily; other times by NOTAM, 6 hours in advance; not to exceed 800 hours per year.

Controlling agency. FAA, Jacksonville ARTCC.

Using agency. U.S. Navy, Fleet Area Control and Surveillance Facility, Jacksonville (FACSFAC JAX), Jacksonville, FL.

* * * * *

R-2910 Pinecastle, FL [Removed]

* * * * *

R-2910A Pinecastle, FL [New]

Boundaries. Beginning at lat. 29°07′58″ N., long. 81°48′29″ W.; to lat. 29°10′01″ N., long. 81°50′34″ W.; to lat. 29°14′01″ N., long. 81°45′49″ W.; to lat. 29°11′51″ N., long. 81°42′59″ W.; thence clockwise along a 5 NM arc centered at lat. 29°06′53″ N., long. 81°42′54″ W.; to lat. 29°10′14″ N., long. 81°38′39″ W.; to lat. 29°00′00″ N., long. 81°30′00″ W.; to lat. 29°00′01″ N., long. 81°42′29″ W.; to lat. 29°03′15″ N., long. 81°46′50″ W.; thence clockwise along a 5 NM arc centered at lat. 29°06′53″ N., long. 81°42′54″ W.; to the point of beginning.

Designated altitudes. Surface to FL 230.

Time of designation. Intermittent, 0800-2400, daily; other times by NOTAM, 6 hours in advance.

Controlling agency. FAA, Jacksonville ARTCC.

Using agency. U.S. Navy, Fleet Area Control and Surveillance Facility, Jacksonville (FACSFAC JAX), Jacksonville, FL.

* * * * *

R-2910B Pinecastle, FL [New]

Boundaries. Beginning at lat. 29°00′00″ N., long. 81°30′00″ W.; to lat. 28°57′56″ N., long. 81°28′24″ W.; to lat. 28°55′20″ N., long. 81°36′12″ W.; to lat. 29°00′01″ N., long. 81°42′29″ W.; to the point of beginning.

Designated altitudes. Surface to 6,000 feet MSL.

Time of designation. Intermittent, 0800-2400, daily; other times by NOTAM, 6 hours in advance.

Controlling agency. FAA, Jacksonville ARTCC.

Using agency. U.S. Navy, Fleet Area Control and Surveillance Facility, Jacksonville (FACSFAC JAX), Jacksonville, FL.

* * * * *

R-2910C Pinecastle, FL [New]

Boundaries. Beginning at lat. 28°57′56″ N., long. 81°28′24″ W.; to lat. 28°53′39″ N., long. 81°33′56″ W.; to lat. 28°55′20″ N., long. 81°36′12″ W.; to the point of beginning.

Designated altitudes. Surface to 6,000 feet MSL.

Time of designation. Intermittent, 0800-2400, daily; other times by NOTAM, 6 hours in advance.

Controlling agency. FAA, Jacksonville ARTCC.

Using agency. U.S. Navy, Fleet Area Control and Surveillance Facility, Jacksonville (FACSFAC JAX), Jacksonville, FL.

* * * * *

R-2910D Pinecastle, FL [New]

Boundaries. Beginning at lat. 29°12′31″ N., long. 81°29′59″ W.; to lat. 29°00′00″ N., long. 81°30′00″ W.; to lat. 29°10′14″ N., long. 81°38′39″ W.; thence counterclockwise along a 5 NM arc centered at lat. 29°06′53″ N., long. 81°42′54″ W.; to lat. 29°11′51″ N., long. 81°42′59″ W.; to lat. 29°14′01″ N., long. 81°45′49″ W.; to lat. 29°10′01″ N., long. 81°50′34″ W.; to lat. 29°15′55″ N., long. 81°56′40″ W.; to lat. 29°20′06″ N., long. 81°51′49″ W.; to lat. 29°15′06″ N., long. 81°51′49″ W.; to lat. 29°15′06″ N., long. 81°39′59″ W.; to lat. 29°12′31″ N., long. 81°38′29″ W.; to the point of beginning.

Designated altitudes. 2,000 feet MSL to FL 230.

Time of designation. Intermittent, 0800-2400, daily; other times by NOTAM, 6 hours in advance.

Controlling agency. FAA, Jacksonville ARTCC.

Using agency. U.S. Navy, Fleet Area Control and Surveillance Facility, Jacksonville (FACSFAC JAX), Jacksonville, FL.

* * * * *

R-2910E Pinecastle, FL [New]

Boundaries. Beginning at lat. 29°12′31″ N., long. 81°29′59″ W.; to lat. 29°00′00″ N., long. 81°30′00″ W.; to lat. 29°10′14″ N., long. 81°38′39″ W.; thence counterclockwise along a 5 NM arc centered at lat. 29°06′53″ N., long. 81°42′54″ W.; to lat. 29°11′51″ N., long. 81°42′59″ W.; to lat. 29°14′01″ N., long. 81°45′49″ W.; to lat. 29°10′01″ N., long. 81°50′34″ W.; to lat. 29°15′55″ N., long. 81°56′40″ W.; to lat. 29°20′06″ N., long. 81°51′49″ W.; to lat. 29°15′06″ N., long. 81°51′49″ W.; to lat. 29°15′06″ N., long. 81°39′59″ W.; to lat. 29°12′31″ N., long. 81°38′29″ W.; to the point of beginning.

Designated altitudes. 500 feet MSL to, but not including, 2,000 feet MSL.

Time of designation. Intermittent, 0800-2400, daily; other times by NOTAM, 6 hours in advance; not to exceed 800 hours per year.

Controlling agency. FAA, Jacksonville ARTCC.

Using agency. U.S. Navy, Fleet Area Control and Surveillance Facility, Jacksonville (FACSFAC JAX), Jacksonville, FL.

Issued in Washington, DC, on June 27, 2013.
Gary A. Norek,
Manager, Airspace Policy and ATC Procedures Group.

[FR Doc. 2013-16054 Filed 7-2-13; 8:45 am]

BILLING CODE 4910-13-P